DEPARTMENT OF THE INTERIOR

[WY-030-2001-1060-JJ]

Bureau of Land Management

AGENCY: Bureau of Land Management, Interior.

ACTION: Notice of intent to conduct a hearing on the use of helicopters and other motorized vehicles in the management and removal of wild horses on the public lands in Wyoming.

SUMMARY: The Wild, Free Roaming Horse and Burro Act, as amended (PL 92-195) provides, among other things, for the use of aircraft and motor vehicles in all phases of the administration of the Act. The Code of Federal Regulations provides, at 43 CFR 4740.1(a), that the authorized officer conduct a public hearing in the area where such use is to be made.

The Bureau of Land Management (BLM) has and plans to continue use of helicopters in the removal of wild, free roaming horses from the public lands within the Rawlins, Lander, Rock Springs, Cody, and Big Horn Basin Field Office jurisdictions.

Pursuant to the requirements noted above, the BLM will conduct a public hearing on the use of helicopters in gathering operations during the calendar year of 2001 on January 30, 2001, at 3 p.m. MDT, in the large conference room of the Rawlins Field Office of the Bureau of Land Management located at 1300 North Third Street in Rawlins, Wyoming.

FOR FURTHER INFORMATION CONTACT: For further information, please contact Chuck Reed, Resource Advisor, Bureau of Land Management, Rawlins Field Office, 1300 North Third Street, P.O. Box 2407, Rawlins, Wyoming 82301, (307) 328-4200; electronic mail at Chuck_Reed@blm.gov.

Kurt J. Kotter,
Field Manager.

[FR Doc. 00-32446 Filed 12-20-00; 8:45 am]

BILLING CODE 4310-22-P